ENVIRONMENTAL PROTECTION AGENCY

[EPA-HQ-OPPT-2020-0078; FRL-11918-01-OCSPP]

Agency Information Collection Activities; Proposed Renewal of an Existing ICR Collection and Request for Comment; Toxic Chemical Release Reporting

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Toxic Chemical Release Reporting,” identified by EPA ICR No. 2613.07 and OMB Control No. 2070-0212. This ICR represents a renewal of an existing ICR that is currently approved through June 30, 2025. Before submitting the ICR to OMB for review and approval under the PRA, EPA is soliciting comments on specific aspects of the information collection that is summarized in this document. The ICR and accompanying material are available in the docket for public review and comment.

DATES: Comments must be received on or before November 18, 2024.

ADDRESSES: Submit your comments, identified by docket identification (ID) number EPA-HQ-OPPT-2020-0078, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Katherine Sleasman, Mission Support Division (7602M), Office of Program Support, Office of Chemical Safety and Pollution Prevention, Environmental Protection Agency, 1200 Pennsylvania Ave. NW, Washington, DC 20460-0001; telephone number: (202) 566-1204; email address: sleasman.katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Toxic Chemical Release Reporting.

EPA ICR No.: 2613.07.

OMB Control No.: 2070-0212.

ICR status: This ICR is currently approved through June 30, 2025. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: Pursuant to section 313 of the Emergency Planning and Community Right-to-Know Act (EPCRA), certain facilities that manufacture, process, or otherwise use specified toxic chemicals in amounts above reporting threshold levels as provided in 40 CFR 372.25 must submit annually to EPA and to their designated state or Indian country officials toxic chemical release forms containing information specified by EPA; (see 42 U.S.C. 11023). In addition, pursuant to section 6607 of the Pollution Prevention Act (PPA), facilities reporting under section 313 of EPCRA must also report pollution prevention and waste management data, including recycling information, for such chemicals; (see 42 U.S.C. 13106). EPA compiles and stores these reports in a publicly accessible database known as the Toxics Release Inventory (TRI). Regulations at 40 CFR part 372, subpart B, require facilities that meet the above criteria to report annually.

This ICR consolidates the following final rule ICRs titled “Rule-Related ICR Amendment; Changes to Reporting Requirements for Per- and Polyfluoroalkyl Substances; Community Right-to-Know Toxic Chemical Release Reporting, Final Rule (RIN 2070-AK97)” (OMB Control No. 2070-0225; EPA ICR No. 2724.02), “Addition of Natural Gas Processing Facilities to the Toxics Release Inventory (TRI) (Final Rule)” (OMB Control No. 2070-0206; EPA ICR No. 2560.02); and “Parent Company Definition for TRI Reporting (Final Rule)” (OMB Control No. 2070-0216; EPA ICR No. 2597.02) into this renewal ICR. Upon OMB approval of this ICR, EPA intends to discontinue OMB Control Nos. 2070-0225, 2070-0206, and 2070-0216.

Burden statement: The annual public reporting and recordkeeping burden for this collection of information is estimated to average 22 to 36 hours per response. Burden is defined in 5 CFR 1320.3(b).

The ICR, which is available in the docket along with other related materials, provides a detailed explanation of the collection activities and the burden estimate that is only briefly summarized here:

Respondents/affected entities: Entities potentially affected are those that apply to owners and operators of facilities covered under EPCRA section 313(a). EPCRA section 313(a) includes facilities that meet the following three criteria: have 10 or more full-time employee equivalents (i.e., a total of 20,000 hours worked per year or greater; see 40 CFR 372.3). The full list of potentially affected entities by North American Industry Classification System (NAICS) codes for facilities that must report to TRI (including exemptions and/or limitations), if all other reporting thresholds are met, can be found at 40 CFR 372.23.

Respondent's obligation to respond: Mandatory, 40 CFR 372 and EPCRA section 313.

Forms: 9350-1 and 9350-2.

Frequency of response: Annual.

Total estimated number of potential respondents: 24,742.

Total estimated average number of responses for each respondent: 3.

Total estimated annual burden hours: 3,600,970 hours.

Total estimated annual costs: $285.304,888, which includes $0 for capital investment or maintenance and operational costs.

III. Are there changes in the estimates from the last approval?

There is an overall average decrease of 698 Form Rs and an increase of 1600 Form As estimated to be submitted to EPA as a result of EPA's exercise of its discretionary authority to apply TRI reporting requirements to 2,990 particular facilities, for specified chemicals. There is a decrease in 15,858 burden hours. However, there is an overall increase of 839,052 non-form (constant) burden hours from the current approved ICR; this increase reflects the increase in supplier notification burden as a result of the Changes to Reporting Requirements for Per- and Polyfluoroalkyl Substances and to Supplier Notifications for Chemicals of Special Concern rule publish on October 31, 2023 (88 FR 74360 (FRL-8741-04-OCSPP)). This is program adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: September 12, 2024.
Michal Freedhoff,
Assistant Administrator, Office of Chemical Safety and Pollution Prevention.

[FR Doc. 2024-21227 Filed 9-17-24; 8:45 am]

BILLING CODE 6560-50-P